DEPARTMENT OF HEALTH AND HUMAN SERVICES

Centers for Disease Control and Prevention

Disease, Disability, and Injury Prevention and Control, Special Emphasis Panel (SEP): RFA OH-01-004: Centers for Agricultural Disease and Injury Research, Education and Prevention

In accordance with section 10(a)(2) of the Federal Advisory Committee Act (Pub. L. 92-463), the Centers for Disease Control and Prevention (CDC) announces the following meeting:

Name: Disease, Disability, and Injury Prevention and Control Special Emphasis Panel (SEP): RFA OH-01-004: Centers for Agricultural Disease and Injury Research, Education and Prevention.

Times and Dates:

6 p.m.-7 p.m., June 24, 2001. (Open)

7:15 p.m.-9 p.m., June 24, 2001. (Closed)

8 a.m.-5 p.m., June 25, 2001. (Closed)

8 a.m.-5 p.m., June 26, 2001. (Closed)

6 p.m.-7 p.m., June 27, 2001. (Open)

7:15 p.m.-9 p.m., June 27, 2001. (Closed)

8 a.m.-5 p.m., June 28, 2001. (Closed)

8 a.m.-5 p.m., June 29, 2001. (Closed)

8 a.m.-5 p.m., August 6, 2001. (Closed)

8 a.m.-5 p.m., August 7, 2001. (Closed)

Place: Doubletree Hotel, 1750 Rockville Pike, Rockville, Maryland 20852.

Status: Portions of the meeting will be closed to the public in accordance with provisions set forth in section 552b(c)(4) and (6), Title 5 U.S.C., and the Determination of the Deputy Director for Program Management, CDC, pursuant to Public Law 92-463.

Matters to be Discussed: The meeting will include the review, discussion, and evaluation of applications received in response to Program Announcement: RFA OH-01-004.

Contact Person for More Information: Price Connor, Ph.D., National Institute for Occupational Safety and Health, CDC, 1600 Clifton Rd, NE, M/S D30, Atlanta, Georgia 30333, telephone 404-639-2383.

The Director, Management Analysis and Services Office has been delegated the authority to sign Federal Register notices pertaining to announcements of meetings and other committee management activities, for both the Centers for Disease Control and Prevention and the Agency for Toxic Substances and Disease Registry.

Dated: April 26, 2001.
John C. Burckhardt,
Acting Director, Management Analysis and Services Office, Centers for Disease Control and Prevention (CDC).

[FR Doc. 01-12521 Filed 5-17-01; 8:45 am]

BILLING CODE 4163-19-P